SMALL BUSINESS ADMINISTRATION

13 CFR Part 121

RIN 3245-AG50

Small Business Size Standards for Manufacturing; Correction

AGENCY: U.S. Small Business Administration.

ACTION: Correcting amendments.

SUMMARY: The U.S. Small Business Administration (SBA) is correcting a final rule that appeared in the Federal Register on January 26, 2016 (81 FR 4469). The rule increased small business size standards for a number of industries in North American Industry Classification System (NAICS) Sector 31-33, Manufacturing. The rule also stated that SBA was amending Footnote 5 to the table of size standards relating to NAICS 326211, Tire Manufacturing (except Retreading), to reflect the current Census Product Classification Codes 3262111 and 3262113. However, SBA inadvertently omitted code 3262111 from the revised text in Footnote 5. This action corrects the omission. This correction does not affect the 1,500-employee small business size standard for NAICS 326211.

DATES: Effective December 21, 2016.

FOR FURTHER INFORMATION CONTACT: Dr. Jorge Laboy-Bruno at (202) 205-6618 or sizestandards@sba.gov, Office of Size Standards, U.S. Small Business Administration, 409 Third Street SW., Washington, DC 20416.

SUPPLEMENTARY INFORMATION: On January 26, 2016, SBA published a final rule implementing changes to the size standards for a number of industries in NAICS Sectors 31-33, Manufacturing (81 FR 4469). As discussed in the preamble of the rule, SBA intended to amend paragraphs (a) and (b) of Footnote 5 to the table of size standards relating to NAICS 326211, Tire Manufacturing (except Retreading), by replacing the former Census classification codes 30111 and 30112 with the new Census Product Classification Codes 3262111 and 3262113. However, the amended text inadvertently omitted the new Census Product Classification code 3262111. This action corrects that omission, but does not affect the 1,500-employee small business size standard for NAICS 326211.

List of Subjects in 13 CFR Part 121

Administrative practice and procedure, Government procurement, Government property, Grant programs—business, Individuals with disabilities, Loan programs—business, Reporting and recordkeeping requirements, Small businesses.

Accordingly, 13 CFR part 121 is corrected by making the following correcting amendments:

PART 121—SMALL BUSINESS SIZE REGULATIONS

1. The authority citation for part 121 continues to read as follows:

Authority: 15 U.S.C. 632, 634(b)(6), 662, and 694a(9).

§ 121.201 [Amended]

2. In Footnote 5 to the table in § 121.201, amend paragraphs (a) and (b) by adding the phrase “3262111 and” before the number “3262113” each time it appears.

A. John Shoraka,
Associate Administrator for Government Contracting and Business Development.

[FR Doc. 2016-30568 Filed 12-20-16; 8:45 am]

BILLING CODE 8205-01-P